DEPARTMENT OF HEALTH AND HUMAN SERVICES

Centers for Disease Control and Prevention

[30Day-06-05BQ]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Understanding the Community Context of the Diabetes Education in Tribal Schools Project—NEW—National Center for Chronic Disease Prevention and Health Promotion/Division of Diabetes Translation (NCCDPHP/DDT), Centers for Disease Control and Prevention (CDC).

Background and Brief Description

This study is part of a larger evaluation of the multi-year Diabetes Education in Tribal Schools (DETS) project to develop and pilot test a science based diabetes prevention curriculum for Native American school children. As part of the overall evaluation (before the curriculum is pilot tested), it will be important to understand the community context and identify implementation issues. Through a series of qualitative interviews with key informants, the study will obtain information about: (1) The community's experience with diabetes; (2) community readiness to adopt the DETS curriculum; (3) the connection between the DETS project and the community; and (4) the best fit between the curriculum and community schools.

The participants for this study will include key informants in five categories; Community leaders, DETS Advisory Board members, DETS Curriculum Subcommittee members, community teachers, and community parents. Potential participants will be identified by DETS Subcommittee members and invited to participate in this research activity. These individuals will be invited to participate because they are already involved in the project and are familiar with the curriculum.

A maximum of 18 individuals from each category will be interviewed for a total of 90 participants. All participants will be adults, both male and female, over the age of 18. It is expected that approximately 75 percent of participants will be Native American and 25 percent will be non-Native American. There is no cost to respondents other than their time. The total estimated burden hours are 70.

Estimate of Annualized Burden Hours
Respondent | Number of respondents | Number of responses per respondent | Avg. burden per response (in hours)
Community Leaders/Elders | 18 | 1 | 45/60
Parents | 18 | 1 | 45/60
Teachers | 18 | 1 | 45/60
DETS Project Subcommittee Members | 18 | 1 | 45/60
DETS Project Advisory Board Members | 18 | 1 | 45/60

Dated: March 22, 2006.
Joan F. Karr,
Acting Reports Clearance Officer, Centers for Disease Control and Prevention.

[FR Doc. E6-6796 Filed 5-4-06; 8:45 am]

BILLING CODE 4163-18-P